DEPARTMENT OF THE INTERIOR

Bureau of Land Management

[BLM_AZ_FRN; AZA-38386, AZAZ105853174]

Public Land Order No. 7943; Withdrawal of National Forest System Lands, Tonto National Forest, Superior, Arizona

AGENCY: Bureau of Land Management, Interior.

ACTION: Public Land Order.

SUMMARY: This order withdraws 276 acres of National Forest System (NFS) lands located within the Tonto National Forest from location and entry under the U.S. mining laws, but not from leasing under the mineral and geothermal leasing laws, for a 20-year term, subject to valid existing rights. The purpose of this withdrawal is to protect these lands for a congressionally mandated conveyance to the Town of Superior (Town), Pinal County, Arizona, upon request from the Town. The Town has submitted a request for conveyance of these lands to the Secretary of Agriculture.

DATES: This Public Land Order takes effect on July 17, 2024.

FOR FURTHER INFORMATION CONTACT: Michael Ouellett, Realty Specialist, BLM Arizona State Office 1 North Central Avenue, Suite 800 Phoenix, AZ 85004, telephone: (602) 417-9561, email at mouellett@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The purpose of this withdrawal is to protect the NFS lands from potential mining-related encumbrances that could affect the Town's ability to use these lands when purchased from the Federal Government. Section 3003 of the National Defense Authorization Act for Fiscal Year 2015 (Pub. L. 113-291 § 3003) requires the Secretary of Agriculture to convey the subject lands to the Town upon request from the Town. On October 15, 2021, the Town submitted such a request to the Secretary of Agriculture.

Order

By virtue of the authority vested in the Secretary of the Interior by Section 204 of the Federal Land Policy and Management Act of 1976, 43 U.S.C. 1714, it is ordered as follows:

1. Subject to valid existing rights, the following described NFS lands are hereby withdrawn from location and entry under the United States mining laws, but not from leasing under the mineral and geothermal leasing laws, for the purpose of protecting these lands for a congressionally mandated conveyance to the Town.

Gila and Salt River Meridian, Arizona

T. 2 S., R. 12 E.,

Sec. 3, N½SW¼SW¼, N½SW¼SW¼SW¼, and N½SE¼SW¼SW¼;

Sec. 4, lots 3 and 4 excepting Lee Mill Site and Penny Mill Site of M.S. No. 4803, S½NW¼ excepting Harborlite Mill Sites 1A and 2A of M.S. No. 4860 and Lee Mill Site and Penny Mill Site of M.S. No. 4803;

Sec. 5, N½NE¼SE¼, NE¼NW¼SE¼, E½NW¼NW¼SE¼, E½SW¼NW¼NW¼SE¼, E½NW¼NW¼NW¼SE¼;

Sec. 9, E½NW¼NE¼, E½NW¼NW¼NE¼, SW¼NW¼NE¼, NW¼NE¼NE¼NW¼, NW¼NE¼NW¼, W½SW¼NE¼NW¼ that portion lying N. of the N. boundary of H.E.S. No. 167, E½NW¼NW¼ that portion lying N. of the N. boundary of H.E.S. No. 167, E½NW¼NW¼NW¼, E½NW¼NW¼NW¼NW¼, E½SW¼NW¼NW¼NW¼, E½SW¼NW¼NW¼ that portion lying N. of the N. boundary of H.E.S. No. 167, E½NW¼SW¼NW¼NW¼ that portion lying N. of the N. boundary of H.E.S. No. 167.

The areas described aggregate 276 acres.

2. The withdrawal made by this order does not alter the applicability of those public land laws governing the use of National Forest System lands under lease, license, or permit, or governing the disposal of the mineral or vegetative resources other than under the mining laws.

3. This withdrawal will expire 20 years from the effective date of this order, unless, as a result of a review conducted pursuant to Section 204(f) of the Federal Land Policy and Management Act of 1976, 43 U.S.C. 1714(f), the Secretary of the Interior determines that the withdrawal shall be extended.

(Authority: 43 U.S.C. 1714)

Robert T. Anderson,
Solicitor.

[FR Doc. 2024-15700 Filed 7-16-24; 8:45 am]

BILLING CODE 3411-15-P